DEPARTMENT OF TRANSPORTATION

Federal Aviation Administration

[Docket No. FAA-2003-15104]

Proposed Advisory Circular for Onboard Recording of Data Communications in Crash Survivable Memory

AGENCY: Federal Aviation Administration (FAA), (DOT).

ACTION: Cancellation of notice of availability and request for public comment.

SUMMARY: This notice announcing the availability of and request for comments on a revised proposed Advisory Circular (AC) for onboard recording of voice and data link messages in crash-survivable memory is cancelled.

DATES: The cancellation of this request for comments is effective on May 6, 2003.

FOR FURTHER INFORMATION CONTACT: Mr. Gregory Frye, Avionics Systems Branch, AIR-130, Aircraft Certification Service, Aircraft Engineering Division, AIR-130, 470 L'Enfant Plaza SW., Suite 4102, Washington, DC 20025; Telephone (202) 385-4630; Fax (202) 385-4651. E-mail comments to: Gregory.E.Frye@faa.gov.

SUPPLEMENTARY INFORMATION:

Background

The primary purposes of an advisory circular (AC) are: (1) Provide an acceptable means by which an Aircraft Certification Office project engineer can effectively evaluate an applicant's compliance to a specific Federal Aviation Regulation (FAR); and (2) provide an acceptable means that an applicant may comply with a specific FAR. In the case of this proposed AC, the regulatory requirements (FAR) to equip an aircraft with a system for an onboard recording to voice and data communications in a crash survivable memory, has not completed the rulemaking process. Therefore, the offering of the proposed advisory circular to the public for comments is premature.

Issued in Washington, DC, on May 6, 2003.
Susan J.M. Cabler,
Deputy Manager, Aircraft Engineering Division, Aircraft Certification Service.

[FR Doc. 03-11794 Filed 5-12-03; 8:45 am]

BILLING CODE 4910-13-M